FEDERAL COMMUNICATIONS COMMISSION

Federal Advisory Committee, Diversity and Digital Empowerment

AGENCY: Federal Communications Commission.

ACTION: Notice.

SUMMARY: In accordance with the Federal Advisory Committee Act, the Federal Communications Commission announces its intent to establish a Federal Advisory Committee, known as the “Advisory Committee on Diversity and Digital Empowerment” (hereinafter “the Committee”).

ADDRESSES: Federal Communications Commission, 445 12th Street SW., Washington, DC 20554.

FOR FURTHER INFORMATION CONTACT: Jamila Bess Johnson, Designated Federal Officer, Federal Communications Commission, Media Bureau, (202) 418-2608 or email: Jamila-Bess.Johnson@fcc.gov, or Brenda Villanueva, the Deputy Designated Federal Officer, at 202-418-7005 or Brenda.Villanueva@fcc.gov.

SUPPLEMENTARY INFORMATION: The Chairman of the Federal Communications Commission (Commission) has determined that establishment of the Committee is necessary and in the public interest in connection with the performance of duties imposed on the Commission by law, and the Committee Management Secretariat, General Services Administration, concurs with the establishment of the Committee. The purpose of the Committee is to make recommendations to the Commission on how to empower disadvantaged communities and accelerate the entry of small businesses, including those owned by women and minorities, into the media, digital news and information, and audio and video programming industries, including as owners, suppliers, and employees. It is also to provide recommendations to the Commission on how to ensure that disadvantaged communities are not denied the wide range of opportunities made possible by next- generation networks. This Committee is intended to provide an effective means for stakeholders with interests in these areas to exchange ideas and develop recommendations to the Commission on media ownership and procurement opportunities, empowering communities in order to spur educational, economic, and civic development, and consumer access to digital technologies.

Advisory Committee

The Committee will be organized under, and will operate in accordance with, the provisions of the Federal Advisory Committee Act (FACA) (5 U.S.C. App.2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairman of the FCC, unless its charter is renewed prior to the termination date. During the Committee's first term, it is anticipated that the Committee will meet in Washington, DC approximately two (2) times a year. The first meeting date and agenda topics will be described in a Public Notice issued and published in the Federal Register at least fifteen (15) days prior to the first meeting date. In addition, as needed, working groups or subcommittees (ad hoc or steering) will be established to facilitate the Committee's work between meetings of the full Committee. Meetings of the Committee will be fully accessible to individuals with disabilities.

Accessible Formats: To request materials in accessible formats for people with disabilities (Braille, large print, electronic files, audio format), send an email to fcc504@fcc.gov or call the Consumer and Governmental Affairs Bureau at (202) 418-0530 (voice), 1-888-835-5322 (TTY).

Federal Communications Commission.
Marlene H. Dortch,
Secretary.

[FR Doc. 2017-12351 Filed 6-14-17; 8:45 am]

BILLING CODE 6712-01-P